DEPARTMENT OF HEALTH AND HUMAN SERVICES

National Institutes of Health

Statement of Organization, Functions, and Delegations of Authority

Part N, National Institutes of Health, of the Statement of Organization, Functions, and Delegations of Authority for the Department of Health and Human Services (40 FR 22859, May 27, 1975, as amended most recently at 68 FR 10743, March 6, 2003, and redesignated from Part HN as Part N at 60 FR 56605, November 9, 1995), is amended as set forth below to reflect the elevation of the NIH Ethics Office from the Office of Management, Office of the Director, NIH, to the Office of the Director, NIH.

Section N-B, Organization and Functions, under the heading Office of the Director (NA, formerly HNA) is amended as follows:

Under the heading Office of the Director (NA, formerly HNA), insert the following:

NIH Ethics Office (NAT, formerly HNAT). (1) Develops and administers the NIH policies for implementing the government-wide conflict of interest statutes and regulations, the HHS supplemental conflict of interest regulations, and HHS and NIH policies; (2) provides ethics policy guidance, training, and advice to: (a) The ICs' ethics staffs, (b) Office of the Director, NIH, staff, and (c) employees whose Deputy Ethics Counselor (DEC) is the NIH DEC; and (3) coordinates the NIH response to requests from Congress, the Inspector General, DHHS and/or the Office of Government Ethics.

Delegations of Authority Statement

All delegations and redelegations of authority to officers and employees of NIH that were in effect immediately prior to the effective date of this establishment and are consistent with this amendment shall continue in effect, pending further redelegation.

Dated: September 14, 2004.
Elias A. Zerhouni,
Director, National Institutes of Health.

[FR Doc. 04-24480 Filed 11-2-04; 8:45 am]

BILLING CODE 4140-01-P